JOINT BOARD FOR ENROLLMENT OF ACTUARIES

20 CFR Part 903

Privacy Act of 1974; Implementation

AGENCY: Joint Board for the Enrollment of Actuaries.

ACTION: Direct final rule.

SUMMARY: In accordance with the requirements of the Privacy Act of 1974, as amended, the Joint Board for the Enrollment of Actuaries (Joint Board) is amending the requirements regarding access to records to revise the listing of the Joint Board's systems of records for which the Joint Board has claimed exemptions, under section (k)(2) of the Privacy Act, from certain of the Privacy Act's provisions, to revise language that incorrectly implies that the Joint Board has yet to seek such exemptions or that incorrectly implies that the Joint Board's claims for exemption are still pending, and to correct internal references.

DATES: This rule is March 28, 2011 without further action, unless adverse comment is received by January 27, 2011. If adverse comment is received, the Joint Board will publish a timely withdrawal of the rule in the Federal Register.

ADDRESSES: Comments should be sent to: Executive Director, Joint Board for the Enrollment of Actuaries, c/o Internal Revenue Service/Office of Professional Responsibility, SE:OPR, 1111 Constitution Avenue, NW., Washington, DC 20224. Comments will be available for inspection and copying in the IRS Freedom of Information Reading Room (Room 1621) at the above address. The telephone number for the Reading Room is (202) 622-5164 (not a toll-free number).

FOR FURTHER INFORMATION CONTACT: Earl Prater, Senior Counsel, Office of Professional Responsibility, at (202) 622-8018 (not a toll-free number).

SUPPLEMENTARY INFORMATION: The Joint Board is proposing to simplify the administration of its Privacy Act systems of records by consolidating the current nine systems into three systems of records and to revise the data elements of consolidated systems of records notices so as to ensure that they accurately reflect the jurisdictional coverage and operational requirements of the Joint Board's regulations, which are set out at 20 CFR parts 901 through 903.

The Joint Board will publish separately in the Federal Register a notice proposing to consolidate and revise its Privacy Act systems of records. As described in the notice, the Joint Board proposes to consolidate its systems of records as follows:

JBEA-2, Charge Case Inventory Files, will be renamed “Enrolled Actuary Disciplinary Records” and will consolidate all disciplinary-related records from that system and from the following systems—

JBEA-4, Enrollment Files;

JBEA-8, Suspension and Termination Files; and

JBEA-9, Suspension and Termination Roster.

JBEA-4, Enrollment Files, will be renamed “Enrolled Actuary Enrollment Records” and will consolidate all enrollment-related records from that system and from the following systems—

JBEA-1, Application Files;

JBEA-2, Charge Case Inventory Files;

JBEA-3, Denied Applications;

JBEA-5, Enrollment Roster;

JBEA-7, General Information;

JBEA-8, Suspension and Termination Files; and

JBEA-9, Suspension and Termination Roster.

JBEA-6, General Correspondence File, will be renamed “Correspondence and Miscellaneous Records.”

The following systems of records will be deleted upon implementation of the consolidated and revised systems:

JBEA-1, Application Files;

JBEA-3, Denied Applications;

JBEA-5, Enrollment Roster;

JBEA-7, General Information;

JBEA-8, Suspension and Termination Files; and

JBEA-9, Suspension and Termination Roster.

If a system of records contains investigative material compiled for law enforcement purposes, section (k)(2) of the Privacy Act permits the head of an agency to promulgate a rule to exempt a system of records from the Privacy Act's provisions granting individuals certain rights with respect to the records that pertain to them, including the right to review and copy the records. As permitted by section (k)(2), the Joint Board published the following documents to exempt certain systems of records:

On August 27, 1975 (40 FR 39387), the Joint Board published a proposed rule to exempt five systems of records, designating the rule as 20 CFR part 903.

On September 30, 1975 (40 FR 45113), the Joint Board published its proposed Privacy Act regulations, designating such regulations as 20 CFR part 903, and in the same publication, the Joint Board republished its proposed rule to exempt five systems of records, redesignating the exempting rule as 20 CFR 903.8.

On January 8, 1976 (41 FR 1493), the Joint Board published its final Privacy Act regulations as 20 CFR part 903 and in the same publication, the Joint Board published its final rule to exempt five systems of records, designating the exempting rule as 20 CFR 903.8.

The systems of records for which the Joint Board has claimed exemptions are listed in 20 CFR 903.8(a) as follows:

JBEA—Enrollment Files;

JBEA—Application Files;

JBEA—General Information;

JBEA—Charge Case Inventory Files; and

JBEA—Suspension and Termination Files.

This direct final rule will amend 20 CFR 903.8 as follows:

a. The exempt system currently listed as “JBEA—Charge Case Inventory Files” will be listed as “JBEA-2, Enrolled Actuary Disciplinary Records.”

b. The exempt system currently listed as “JBEA—Enrollment Files” will be listed as “JBEA-4, Enrolled Actuary Enrollment Records.”

c. The following systems will be deleted from the listing of exempt systems:

JBEA—Application Files;

JBEA—General Information; and

JBEA—Suspension and Termination Files.

d. Language such as “Exemption will be claimed” (§ 903.8(b)), which incorrectly implies that the Joint Board has yet to seek exemptions, and language such as the “the Joint Board seeks exemption” (§ 903.8(c)(2)(i), (ii), (iii), (iv), (v), and (vi)), which incorrectly implies that the Joint Board's claims for exemptions are still pending, will be revised.

e. Internal references will be corrected.

These regulations are being published as a direct final rule because the amendments do not impose any requirements on any member of the public. These amendments are the most efficient means for the Joint Board to implement its internal requirements for complying with the Privacy Act.

Accordingly, pursuant to 5 U.S.C. 553(b)(3)(B), the Joint Board finds good cause that prior notice and other public procedures with respect to this rule are unnecessary, and good cause for making this direct final rule effective 90 days after publication in the Federal Register.

Pursuant to Executive Order 12866, it has been determined that this direct final rule is not a significant regulatory action, and therefore, does not require a regulatory impact analysis.

Because no notice of proposed rulemaking is required, the provisions of the Regulatory Flexibility Act, 5 U.S.C. 601-612, do not apply.

List of Subjects in 20 CFR Part 903

Access to Records.

Adoption of Amendments to the Regulations

Accordingly, 20 CFR part 903 is amended as follows:

PART 903—ACCESS TO RECORDS

1. The authority citation for 20 CFR part 903 continues to read as follows:

Authority: 5 U.S.C. 552a.

2. Section 903.8, is amended by:

a. Revising paragraph (a);

b. Revising paragraph (b);

c. Revising the last sentence of paragraph (c)(2)(i);

d. Revising the last sentence of paragraph (c)(2)(ii);

e. Amending paragraph (c)(2)(iii) by removing the reference “the preceding subparagraph (2)(B)” and by adding in its place, the reference “the preceding subsection (2)(ii)”;

f. Revising the last sentence of paragraph (c)(2)(iii);

g. Amending paragraph (c)(2)(iv) by removing the reference “the preceding subparagraph (2)(B)” and by adding in its place the reference “the preceding subsection (2)(ii)”;

g. Amending paragraph (c)(2)(iv) by removing the reference “afforded by subsections (c)(4)(G)” and by adding in its place the reference “afforded by subsections (e)(4)(G)”; and

h. Revising the last sentence of paragraphs (c)(2)(iv), (c)(2)(v), and (c)(2)(vi).

The revisions read as follows:

§ 903.8 Exemptions.

(a) Names of systems: JBEA-2, Enrolled Actuary Disciplinary Records; and JBEA-4, Enrolled Actuary Enrollment Records.

(b) Provisions from which exempted: These systems contain records described in section (k)(2) of the Privacy Act of 1974, 5 U.S.C. 552a(k)(2). Exemptions are claimed for such records only where appropriate from the following provisions: sections (c)(3); (d); (e)(1); (e)(4)(G), (e)(4)(H), and (e)(4)(I); and (f) of 5 U.S.C. 552a.

(c) * * *

(2) * * *

(i) * * * For these reasons, the Joint Board claims exemption from the requirements of subsection (c)(3) of the Act.

(ii) * * * For these reasons, the Joint Board claims exemptions from the requirements of subsections (d)(1), (e)(4)(H), and (f)(2), (3), and (5) of the Act.

(iii) * * * Therefore, the Joint Board claims exemptions from the requirements of subsections (d)(2), (3), and (4), (e)(4)(H), and (f)(4).

(iv) * * * For these reasons, the Joint Board claims exemptions from the requirements of subsections (e)(4)(G) and (f)(1).

(v) * * * For these reasons, the Joint Board claims exemption from the requirements of subsection (e)(1).

(vi) * * * For these reasons, the Joint Board claims exemption from the requirements of subsection (e)(4)(I).

Dated: November 4, 2010.
Carolyn E. Zimmerman,
Chair, Joint Board for the Enrollment of Actuaries.

[FR Doc. 2010-32165 Filed 12-27-10; 8:45 am]

BILLING CODE 4830-01-P